DEPARTMENT OF STATE

[Delegation of Authority No. 547]

Delegation of Authority Under the Creating Helpful Incentives To Produce Semiconductors (CHIPS) Act of 2022

By virtue of the authority vested in the Secretary of State by the laws of the United States, including section 1 of the State Department Basic Authorities Act (22 U.S.C. 2651a) and section 102(c) of the CHIPS Act of 2022 (Div. A, Pub. L. 117-167) (CHIPS Act), I hereby delegate the following functions to the extent authorized by law:

• To the Director and the Deputy Director of the Office of U.S. Foreign Assistance, the function conferred upon the Secretary of State by section 102(c)(1) of the CHIPS Act to approve the transfer of amounts in the Creating Helpful Incentives to Produce Semiconductors (CHIPS) for America International Technology Security and Innovation Fund (ITSI Fund) to foreign assistance accounts within the Department of State and the United States Agency for International Development and to accounts within the Export-Import Bank and the United States International Development Finance Corporation, as appropriate, to be used for such purposes and under the terms and conditions of the account to which transferred.

• To the Under Secretary for Management, the function conferred upon the Secretary of State by section 102(c)(1) of the CHIPS Act to approve the transfer of amounts in the CHIPS ITSI Fund to diplomatic engagement accounts within the Department of State to be used for such purposes and under the terms and conditions of the account to which transferred.

The Secretary, the Deputy Secretary, and the Deputy Secretary for Management and Resources may exercise any function or authority delegated herein. Any reference in this delegation of authority to a statute shall be deemed to be a reference to such statute as amended from time to time and shall be deemed to apply to any provision of law that is the same or substantially the same as such statute. This delegation of authority does not repeal or otherwise affect any other delegation of authority currently in effect.

This delegation of authority will be published in the Federal Register.

Dated: July 3, 2023.
Antony J. Blinken,
Secretary of State.

Editorial Note: This document was received for publication by the Office of the Federal Register on November 27, 2023.

[FR Doc. 2023-26362 Filed 11-29-23; 8:45 am]

BILLING CODE 4710-10-P